DEPARTMENT OF THE TREASURY

Periodic Meetings of the U.S. Department of the Treasury Tribal Advisory Committee

AGENCY: Department of the Treasury.

ACTION: Notice of meetings.

SUMMARY: This notice announces that the U.S. Department of the Treasury Tribal Advisory Committee (TTAC) will convene two public meetings, one on Tuesday, March 31, 2020, and one on Wednesday, September 16, 2020, each of which will be held from 9 a.m.-1 p.m. Eastern Time in the Cash Room of the Treasury Building located at 1500 Pennsylvania Avenue NW, Washington, DC 20220. Both meetings are open to the public, and the Treasury building is accessible to individuals with differing abilities.

DATES: Both the meeting on Tuesday, March 31, 2020, and the meeting on Wednesday, September 16, 2020, will be held from 9 a.m.-1 p.m. Eastern Time.

ADDRESSES: The meetings will be held in the Cash Room at the Treasury Building located at 1500 Pennsylvania Avenue NW, Washington, DC 20220. Both meetings will be open to the public. Because each meeting will be held in a secured facility, members of the public who plan to attend the meetings must register online or by telephone by 5 p.m. Eastern Time on Wednesday, March 25, 2020, for the meeting on March 31, 2020, and by 5 p.m. Eastern Time on Thursday, September 10, 2020, for the meeting on September 16, 2020. For the meeting on March 31, 2020, attendees with a valid email address may visit http://www.cvent.com/d/8hqrcm to complete a secure online registration form. For the meeting on September 16, 2020, attendees with a valid email address may visit http://www.cvent.com/d/8nhqf20 to complete a secure online registration form. All other attendees may contact Marie Vazquez Lopez at marie.vazquezlopez@treasury.gov. If you require a reasonable accommodation, please contact Lisa Jones at lisa.jones@treasury.gov or 202-622-0315. To request a sign language interpreter, please make your request five days prior to the event, if possible, by contacting Lillian Wright at lillian.wright@treasury.gov. For all other inquiries concerning the TTAC meeting, please contact TTAC@treasury.gov.

FOR FURTHER INFORMATION CONTACT: Nancy Montoya, Policy Analyst, Department of the Treasury, 1500 Pennsylvania Avenue NW, Room 1426G, Washington, DC 20220, or at (202) 622-2031 (this is not a toll-free number). Persons who have difficulty hearing or speaking may access this number via TTY by calling the toll-free Federal Relay Service at (800) 877-8339. Further information may also be found at: https://home.treasury.gov/policy-issues/tribal-affairs/treasury-tribal-advisory-committee.

SUPPLEMENTARY INFORMATION:

Background

Section 3 of the Tribal General Welfare Exclusion Act of 2014, Public Law 113-68, 128 Stat. 1883, enacted on September 26, 2014 (TGWEA), directs the Secretary of the Treasury (Secretary) to establish a seven member Tribal Advisory Committee to advise the Secretary on matters related to the taxation of Indians, the training of Internal Revenue Service field agents, and the provision of training and technical assistance to Native American financial officers.

Pursuant to Section 3 of the TGWEA and in accordance with the provisions of the Federal Advisory Committee Act (FACA), 5 U.S.C. App. 1 et seq., the TTAC was established on February 10, 2015, as the “U.S. Department of the Treasury Tribal Advisory Committee.” The TTAC's Charter provides that it shall operate under the provisions of the FACA and shall advise and report to the Secretary on:

(1) Matters related to the taxation of Indians;

(2) The establishment of training and education for internal revenue field agents who administer and enforce internal revenue laws with respect to Indian tribes of Federal Indian law and the Federal Government's unique legal treaty and trust relationship with Indian tribal governments; and

(3) The establishment of training of such internal revenue field agents, and provisions of training and technical assistance to tribal financial officers, about implementation of the TGWEA and any amendments.

Fourth and Fifth Periodic Meetings

In accordance with section 10(a)(2) of the FACA and implementing regulations at 41 CFR 102-3.150, Krishna P. Vallabhaneni, the Tax Legislative Counsel and Designated Federal Officer of the TTAC, has ordered publication of this notice to inform the public that the TTAC will convene its fourth periodic meeting on Tuesday, March 31, 2020, from 9 a.m.-1 p.m. Eastern Time in the Cash Room of the Treasury Building located at 1500 Pennsylvania Avenue NW, Washington, DC 20220. Further, in accordance with section 10(a)(2) of the FACA and implementing regulations at 41 CFR 102-3.150, Krishna P. Vallabhaneni, the Tax Legislative Counsel and Designated Federal Officer of the TTAC, has ordered publication of this notice to inform the public that the TTAC will convene its fifth periodic meeting on Wednesday, September 16, 2020, from 9:00 a.m.-1:00 p.m. Eastern Time in the Cash Room of the Treasury Building located at 1500 Pennsylvania Avenue NW, Washington, DC 20220.

Summary of Agenda and Topics To Be Discussed

During these periodic meetings, the seven members of the TTAC will approve meeting minutes, provide updates on TTAC and subcommittee activities, review the TTAC's priority issues matrix, review and receive public comments, and take other actions necessary to fulfill the Committee's mandate.

Public Comments

Members of the public wishing to comment on the business of the TTAC are invited to submit written statements 15 calendar days in advance of each Public Meeting by any of the following methods:

Electronic Statements

• Send electronic comments to TTAC@treasury.gov.

Paper Statements

• Send paper statements in triplicate to the Treasury Tribal Advisory Committee, Department of the Treasury, 1500 Pennsylvania Avenue NW, Room 1426G, Washington, DC 20220.

The TTAC will post all statements on the Department of the Treasury's website at https://home.treasury.gov/policy-issues/tribal-affairs/treasury-tribal-advisory-committee without change, including any business or personal information provided such as names, addresses, email addresses, or telephone numbers. The Department of the Treasury will also make such statements available for public inspection and copying in the Department of the Treasury's Library, 720 Madison Place NW, Room 1020, Washington, DC 20220, on official business days between the hours of 10 a.m. and 5 p.m. Eastern Time. You can make an appointment to inspect statements by telephoning (202) 622-2000. All statements received, including attachments and other supporting materials, are part of the public record and subject to public disclosure. You should submit only information that you wish to make available publicly.

Krishna P. Vallabhaneni,
Tax Legislative Counsel.

[FR Doc. 2020-02442 Filed 2-6-20; 8:45 am]

BILLING CODE 4810-25-P